DEPARTMENT OF COMMERCE

National Oceanic and Atmospheric Administration

[I.D. 072204B]

Proposed Information Collection; Comment Request; Gear-Marking Requirements for the Harbor Porpoise Take Reduction Plan

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 27, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to David Gouveia, National Marine Fisheries Service, One Blackburn Drive, Gloucester, MA 01930 (or via the Internet at david.gouveia@noaa.gov).

SUPPLEMENTARY INFORMATION:

I. Abstract

Federal regulations at 50 CFR 229.34 limit the number of nets that can be used in certain fisheries in the mid-Atlantic that appear to be most closely linked with accidental catch of harbor porpoises. The fishermen in these fisheries must obtain and attach numbered tags for their nets. Because the number of tags per vessel is capped, the tagging program helps to limit the number of nets in use and helps NOAA identify the number in use.

II. Method of Collection

Requests for tags are submitted to NOAA on a paper form.

III. Data

OMB Number: 0648-0357.

Form Number: None.

Type of Review: Regular submission.

Affected Public: Business or other for-profit organizations. individuals or households.

Estimated Number of Respondents: 25.

Estimated Time Per Response: 1 minute to attach a tag to a net and 2 minutes to request tags.

Estimated Total Annual Burden Hours: 22.

Estimated Total Annual Cost to Public: $400.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 20, 2004.
Gwellnar Banks,
Management Analyst, Office of the Chief Information Officer.

[FR Doc. 04-17070 Filed 7-26-04; 8:45 am]

BILLING CODE 3510-22-S